DEPARTMENT OF THE INTERIOR

Bureau of Land Management

[AZ-952-09-1420-00]

Arizona State Office, 222 N. Central Avenue, Phoenix, AZ 85004; Arizona; Notice of Filing of Plats of Survey

January 18, 2000.

1. The plats of survey of the following described land were officially filed in the Arizona State Office, Phoenix, Arizona on the dates indicated:

A plat, in four sheets, representing the dependent resurvey of a portion of the subdivisional lines, the metes-and-bounds survey of the Hopi and Navajo partition line, and the survey of a portion of the subdivisional lines, Township 31 North, Range 10 East of the Gila and Salt River Meridian, Arizona, accepted May 3, 1999 and officially filed May 14, 1999.

This plat was prepared at the request of the Bureau of Indian Affairs, Phoenix Area Office.

A plat in four sheets, representing the dependent resurvey of south, east, and west boundaries, the subdivisonal lines, and Tract 37, and the metes-and-bounds survey of the Hopi and Navajo partition line, Township 31 North, Range 11 East, of the Gila and Salt River Meridian, Arizona, accepted April 23, 1999 and officially filed April 30, 1999.

This plat was prepared at the request of the Bureau of Indian Affairs, Phoenix Area Office.

A plat in seven sheets, representing the dependent resurvey of a portion of the south and east boundaries, a portion of the subdivisional lines and Tracts 43 through 52, and the metes-and-bounds survey of the Hopi and Navajo portion line in Township 32 North, Range 11 East, of the Gila and Salt River Meridian, Arizona, accepted April 20, 1999 and officially filed April 30, 1999.

This plat was prepared a the request of the Bureau of Indian Affairs, Phoenix Area Office.

A plat in four sheets, representing the metes-and-bounds survey of the Hopi and Navajo partition line through unsurveyed Townships 30 North, Ranges 11 and 12 East, and Township 31 North, Range 12 East, and partially surveyed Township 32 North, Range 12 East, of the Gila and Salt River Meridian, Arizona, accepted May 3, 1999 and officially filed May 14, 1999.

This plat was prepared at the request of the Bureau of Indian Affairs, Phoenix Area Office.

A plat in three sheets, representing the dependent resurvey of a portion of the south boundary and a portion of the subdivisional lines and the metes-and-bounds survey of the Hopi and Navajo partition line in Township 32 North, Range 12 East, of the Gila and Salt River Meridian, Arizona, accepted April 22, 1999 and officially filed April 30, 1999.

This plat was prepared at the request of the Bureau of Indian Affairs, Phoenix Area Office.

A plat in four sheets, representing the dependent resurvey of a portion of the Gila and Salt River Baseline (south boundary), a portion of the subdivisional lines and portions of certain mineral surveys, and the metes-and-bounds surveys in Township 1 North, Range 14 East, of the Gila and Salt River Meridian, Arizona, accepted May 11, 1999 and officially filed May 21, 1999.

This plat was prepared at the request of the Bureau of Land Management and Cyprus Mine of Miami, Arizona.

A plat representing the survey of the Fifth Guide Meridian East, (a portion of the west boundary), the east boundary, and a portion of the subdivisional lines, Township 36 North, Range 21 East, of the Gila and Salt River Meridian, Arizona, accepted July 23, 1999 and officially filed July 30, 1999.

This plat was prepared at the request of the Bureau of Indian Affairs, Navajo Area Office.

A plat representing the survey of the south, east, west and north boundaries, and the subdivisional lines, Township 35 North, Range 23 East, of the Gila and Salt River Meridian, Arizona, accepted December 1, 1999 and officially filed December 10, 1999.

This plat was prepared at the request of the Bureau of Indian Affairs, Navajo Area Office.

A plat representing the subdivision of section 6 and a metes-and-bounds survey in section 6, Township 8 North, Range 5 West, of the Gila and Salt River Meridian, Arizona, accepted November 30, 1999 and officially filed December 10, 1999.

This plat was prepared at the request of the Bureau of Land Management, Phoenix Filed Office.

A plat representing the dependent resurvey of a portion of the subdivisional lines and the metes-and-bounds survey of the Table Top Wilderness Area boundary, Township 7 South, Range 1 East, of the Gila and Salt River Meridian, Arizona, accepted December 3, 1999 and officially filed December 10, 1999.

This plat was prepared at the request of the Bureau of Land Management, Arizona State Office.

A plat, in three sheets, representing the dependent resurvey of a portion of the east boundary and a portion of the subdivisional lines and the metes-and-bounds survey of the Table Top Wilderness Area boundary, Township 8 South, Range 1 East, of the Gila and Salt River Meridian, Arizona, accepted January 3, 2000 and officially filed January 12, 2000.

This plat was prepared at the request of the Bureau of Land Management, Arizona State Office.

A plat, in three sheets, representing the survey of a portion of the east boundary, the dependent resurvey of a portion of the west boundary and a portion of the subdivisional lines and the metes-and-bounds survey of the Table Top Wilderness Area boundary, Township 7 South, Range 2 East, of the Gila and Salt River Meridian, Arizona, accepted September 7, 1999 and officially filed September 17, 1999.

This plat was prepared at the request of the Bureau of Land Management, Arizona State Office.

A plat, in three sheets, representing the dependent resurvey of a portion of the subdivisional lines and the metes-and-bounds survey of the Table Top Wilderness Area boundary, Township 8 South, Range 2 East, of the Gila and Salt River Meridian, Arizona, accepted January 3, 2000 and officially filed January 12, 2000.

This plat was prepared at the request of the Bureau of Land Management, Arizona State Office.

A plat, in four sheets, representing the dependent resurvey of a portion of the south boundary, a portion of the subdivisional lines, and the metes-and-bounds survey of the Table Top Wilderness Area boundary, Township 7 South, Range 3 East, of the Gila and Salt River Meridian, Arizona, was accepted December 8, 1999, and officially filed December 17, 1999.

This plat was prepared at the request of the Bureau of Land Management, Arizona State Office.

A plat, in four sheets, representing the dependent resurvey of a portion of the subdivisional lines and the metes-and-bounds survey of the Table Top Wilderness Area boundary, Township 8 South, Range 3 East, of the Gila and Salt River Meridian, Arizona, was accepted January 4, 2000, and officially filed January 12, 2000.

This plat was prepared at the request of the Bureau of Land Management, Arizona State Office.

A plat, in two sheets, representing the dependent resurvey of a portion of the north boundary and a portion of the subdivisional lines, the survey of a portion of the subdivisional lines and the subdivision of sections, Township 20 South, Range 16 East, of the Gila and Salt River Meridian, Arizona, accepted July 14, 1999 and officially filed July 23, 1999.

These plats will immediately become the basic records for describing the land for all authorized purposes. These plats have been placed in the open files and are available to the public for information only.

2. All inquires relation to these lands should be sent to the Arizona State Office, Bureau of Land Management, 222 N. Central Avenue, P.O. Box 1552, Phoenix, Arizona 85001-1552.

Kenny D. Ravnikar.,
Chief Cadastral Surveyor of Arizona.

[FR Doc. 00-2424 Filed 2-2-00; 8:45 am]

BILLING CODE 4310-32-P